DEPARTMENT OF ENERGY

Federal Energy Regulatory Commission

[Docket No. CP00-386-000]

Southern Union Gas Company; Notice of Application

June 16, 2000.

Take notice that on June 9, 2000, Southern Union Gas Company (Southern Union), as a local distribution company with offices at 504 Lavaca Street, Austin, Texas 78701, filed in Docket No. CP00-386-000, an application pursuant to Section 7(c) of the Natural Gas Act, for a limited-jurisdiction blanket certificate pursuant to Section 284.224 of the Commission's Regulations. Southern Union proposes to transport gas in interstate commerce for a limited time for MGI Supply Ltd., Pemex Gas y Petroquimica Basica, to facilitate critical human needs to the City of Juarez, Mexico. Southern Union seeks approval of a rate for this service based on a methodology for calculating a rate filed with the appropriate Texas state regulatory agency for comparable service. This application is on file with the Commission and open to public inspection. The filing may also be viewed on the web at http://www.ferc.us/online/rims.htm (call 202-208-2222).

Any person desiring to be heard or to make any protest with reference to said application should on or before July 3, 2000, file with the Federal Energy Regulatory Commission, Washington, DC 20426, a motion to intervene or a protest in accordance with the requirements of the Commission's Rules of Practice and Procedure (18 CFR 385.214 or 385.211). and the Regulations under the Natural Gas Act (18 CFR 157.10). All protests filed with the Commission will be considered by it in determining the appropriate action to be taken, but will not serve to make protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate and permission for abandonment are required by the public convenience and necessity. If a motion for leave to intervene is timely filed, or if the Commission on its own motion believes that a formal hearing is required, further notice of such hearing will be duly given.

Under the procedure herein provided for, unless otherwise advised, it will be unnecessary for Southern Union to appear or be represented at the hearing.

David P. Boergers,
Secretary.

[FR Doc. 00-15734 Filed 6-21-00; 8:45 am]

BILLING CODE 6717-01-M